DEPARTMENT OF STATE

[Public Notice 7179]

Determination and Certification Related to Colombian Armed Forces Under Section 7046(B) of the Department of State, Foreign Operations, and Related Programs Appropriations Act, 2010 (Division F, Pub. L. 111-117)

Pursuant to the authority vested in the Secretary of State, including under section 7046(b) of the Department of State, Foreign Operations, and Related Programs Appropriations Act, 2010 (Div. F, Pub. L. 111-117) (“FY 2010 SFOAA”), I hereby determine, certify, and report that the Colombian Armed Forces are meeting the conditions contained in section 7046(b)(1)(B) and section 7046(b)(2) of the Department of State, Foreign Operations, and Related Programs Appropriations Act, 2009 (Div. H, Pub. L. 111-8) (“FY 2009 SFOAA”).

Pursuant to section 7046(b) of the FY 2010 SFOAA, the Department of State has periodically consulted with Colombian and internationally recognized human rights organizations regarding the Colombian Armed Forces' progress in meeting the above-mentioned conditions, as provided in section 7046(c) of the FY 2009 SFOAA.

This Determination and Certification shall be published in the Federal Register, and copies shall be transmitted to the appropriate committees of Congress.

Dated: September 9, 2010.
James B. Steinberg,
Deputy Secretary of State.

[FR Doc. 2010-23696 Filed 9-21-10; 8:45 am]

BILLING CODE 4710-29-P